DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons and vessels that have been placed on OFAC's Specially Designated Nationals and Blocked Persons List based on OFAC's determination that one or more applicable legal criteria were satisfied. All property and interests in property subject to U.S. jurisdiction of these persons and these vessels are blocked, and U.S. persons are generally prohibited from engaging in transactions with them.

DATES: See SUPPLEMENTARY INFORMATION section for applicable date(s).

FOR FURTHER INFORMATION CONTACT: OFAC: Associate Director for Global Targeting, tel.: 202-622-2420; Assistant Director for Licensing, tel.: 202-622-2480; Assistant Director for Regulatory Affairs, tel.: 202-622-4855; Assistant Director for Sanctions Compliance & Evaluation, tel.: 202-622-2490.

SUPPLEMENTARY INFORMATION:

Electronic Availability

The Specially Designated Nationals and Blocked Persons List and additional information concerning OFAC sanctions programs are available on OFAC's website (www.treasury.gov/ofac).

Notice of OFAC Actions

On August 30, 2019, OFAC determined that the property and interests in property subject to U.S. jurisdiction of the following persons are blocked under the relevant sanctions authority listed below.

Individuals

Entities

Vessel

1. SHANG YUAN BAO Panama flag; Secondary sanctions risk: North Korea Sanctions Regulations, sections 510.201 and 510.210; Vessel Registration Identification IMO 8126070 (vessel) [DPRK4] (Linked To: HUANG, Wang Ken; Linked To: CHEN, Mei Hsiang; Linked To: JUI CHENG SHIPPING COMPANY LIMITED; Linked To: JUI PANG SHIPPING CO LTD; Linked To: JUI ZONG SHIP MANAGEMENT CO LTD).

Identified pursuant to E.O. 13810 as property in which HUANG WANG KEN, CHEN MEI HSIANG, JUI CHENG SHIPPING COMPANY LIMITED, JUI ZONG SHIP MANAGEMENT CO LTD, and JUI PANG SHIPPING CO LTD, persons whose property and interests in property are blocked pursuant to E.O. 13810, have an interest.

Dated: August 30, 2019.
Andrea Gacki,
Director, Office of Foreign Assets Control.

[FR Doc. 2019-19159 Filed 9-4-19; 8:45 am]

BILLING CODE 4810-AL-P